DEPARTMENT OF THE INTERIOR

Bureau of Land Management

[CACA-17905, LLCAD06000 L51010000 ER0000 LVRWB09B1820]

Notice of Availability of the Record of Decision for the Southern California Edison Company Devers-Palo Verde No. 2 Transmission Line Project, California

AGENCY: Bureau of Land Management, Interior.

ACTION: Notice of availability.

SUMMARY: The Bureau of Land Management (BLM) and the Department of Agriculture United States Forest Service (USFS) announces the availability of the Record of Decision (ROD) for the Devers-Palo Verde No. 2 Transmission Line Project located in southern California. The Palm Springs Field Manager signed the ROD, which constitutes the final decision of the BLM and makes the right-of-way decision effective immediately.

ADDRESSES: Copies of the ROD are available upon request from the Field Manager, Palm Springs-South Coast Field Office, 1201 Bird Center Drive, Palm Springs, California 92262-8001. The ROD is also available upon request from the San Bernardino National Forest Supervisor's Office, 602 S. Tippecanoe Avenue, San Bernardino, California 92408 or at the following Web site: http://www.blm.gov/ca/st/en/fo/palmsprings.html.

FOR FURTHER INFORMATION CONTACT: Holly L. Roberts at (760) 833-7100, e-mail holly_roberts@ca.blm.gov, address 1201 Bird Center Drive, Palm Springs, California 92262-8001; or Robert H. Hawkins at (707) 562-9143 or e-mail: rhawkins@fs.fed.us. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In 2005, Southern California Edison Company (SCE) proposed to construct a new 230-mile-long, 500-kilovolt (kV) electrical transmission line between the SCE's Devers substation located near Palm Springs, California, and the Harquahala generating station switchyard, located near the Palo Verde Nuclear Generating Station west of Phoenix, Arizona. A 50-mile 230-kV transmission line upgrade was included between the Devers Substation west to San Bernardino, California. A Notice of Intent to prepare an Environmental Impact Report (EIR)/Environmental Impact Statement (EIS) was published in the Federal Register on December 7, 2005. The BLM, together with the California Public Utilities Commission (CPUC) and the USFS prepared a joint EIR/EIS for this project. The Final EIR/EIS was completed in late October, 2006, with the EPA's Notice of Availability (NOA) published on November 3, 2006. The preferred alternative rejected the 230-kV transmission line upgrades west of the Devers Substation in favor of a 500-kV transmission line extension originating at the Devers Substation and terminating at the Valley Substation near Romoland, California. On December 22, 2006, the CPUC issued a Certificate of Public Convenience and Necessity approving the California portion of the project under their jurisdiction.

The BLM's ROD was delayed, however, pending approval of the Arizona portion of the project by the Arizona Corporations Commission (ACC). Negotiations between the ACC and SCE continued until May 15, 2009, when SCE announced it was no longer pursuing construction of the Arizona portion of the project. The SCE, however, continues to pursue completion of the California portion of the project. The rationale for this 157-mile-long, California-only project includes anticipated future renewable energy development and generator interconnection requests in the vicinity of Blythe, in Riverside County, California. This ROD addresses the California-only project.

Any party adversely affected by the ROD decision may appeal within 30 days of publication of this NOA pursuant to 43 CFR, part 4, subpart E. The appeal must be filed with the Palm Springs Field Manager at the above listed address. Please consult the appropriate regulations (43 CFR part 4, subpart E) for further appeal requirements.

Authority: 40 CFR 1506.6.

Karla Norris,
Assistant Deputy State Director, Natural Resources.

[FR Doc. 2011-18186 Filed 7-18-11; 8:45 am]

BILLING CODE 4310-40-P